DEPARTMENT OF AGRICULTURE

Agricultural Marketing Service

7 CFR Part 1245

[Document Number AMS-FV-07-0091; FV-07-706-PR-2A]

RIN 0581-AC78

Establishment of a U.S. Honey Producer Research, Promotion, and Consumer Information Order; Withdrawal of a Proposed Rule

AGENCY: Agricultural Marketing Service, USDA.

ACTION: Withdrawal of proposed rule and referendum order.

SUMMARY: This document withdraws a proposed rule published in the Federal Register on April 12, 2010, that proposed a new U.S. honey producer funded research and promotion program under the Commodity Promotion, Research, and Information Act of 1996 (1996 Act). The proposed U.S. Honey Producer Research, Promotion and Consumer Information Order (Proposed Order) was submitted to the Department of Agriculture (Department) by the American Honey Producers Association (AHPA). The Department conducted an initial referendum from May 17, 2010, through June 4, 2010, to ascertain whether the persons to be covered by and assessed under the Proposed Order favored the Order prior to it going into effect. The Proposed Order failed by vote. Accordingly, based upon the referendum results, the proposed rule is being withdrawn.

DATES: Effective Date: November 9, 2010.

FOR FURTHER INFORMATION CONTACT: Kimberly Coy, Marketing Specialist, Research and Promotion Branch, Fruit and Vegetable Programs, AMS, USDA, Stop 0244, Room 0634-S, 1400 Independence Ave., SW., Washington, DC 20250-0244; telephone (202) 720-9915 or (888) 720-9917 (toll free), Fax: (202) 205-2800 or e-mail kimberly.coy@ams.usda.gov.

SUPPLEMENTARY INFORMATION: This rule is issued under the Commodity Promotion, Research, and Information Act of 1996 (1996 Act) (7 U.S.C. 7411-7425).

This action withdraws a proposed rule and referendum order published in the Federal Register on April 12, 2010 [75 FR 18430], that proposed a new U.S. honey producer funded research and promotion program.

As part of this rulemaking, a proposed rule was published in the Federal Register on July 14, 2009 [74 FR 34182], with a 60-day comment period which closed on September 4, 2009. Fourteen comments were received. In addition, a second proposed rule and referendum order was published in the Federal Register on April 12, 2010 [75 FR 18430]. A separate final rule on referendum procedures was published in the Federal Register on April 12, 2010 [75 FR 18396].

The Department conducted an initial referendum from May 17, 2010 through June 4, 2010 to ascertain whether the persons to be covered by and assessed under the Proposed Order favored the Order prior to it going into effect. To be eligible to vote, producers must have produced 100,000 or more pounds of honey from January 1, 2008 through December 31, 2008. The Proposed Order would have been implemented if approved by a majority of the producers voting in the referendum, which also represented a majority of the volume of U.S. honey produced during the representative period by those voting in the referendum. In the referendum, 41 percent of those who voted—representing 52 percent of the voted volume of U.S. honey—favored implementation of the Order. Therefore, the Proposed Order failed by vote. Accordingly based upon the referendum results, the proposed rule is being withdrawn.

The proposed rule to implement a new U.S. honey producer funded research and promotion program under the 1996 Act published in the Federal Register on April 12, 2010 (75 FR 18430), is hereby withdrawn.

List of Subjects in 7 CFR Part 1245

Administrative practice and procedure, Advertising, Consumer Education, U.S. Honey, Marketing agreements, Promotion, Reporting and recordkeeping requirements.

Authority: 7 U.S.C. 7411-7425; 7 U.S.C. 7401.

Dated: November 3, 2010.
David R. Shipman,
Acting Administrator, Agricultural Marketing Service.

[FR Doc. 2010-28242 Filed 11-8-10; 8:45 am]

BILLING CODE 3410-02-P